DEPARTMENT OF ENERGY

Federal Energy Regulatory Commission

Columbia Gulf Transmission Company; Notice of Proposed Changes in FERC Gas Tariff

June 1, 2000.

Take notice that on May 26, 2000, Columbia Gulf Transmission Company (Columbia Gulf) tendered for filing as part of its FERC Gas Tariff, Second Revised Volume No. 1, the following revised tariff sheets with a proposed effective date of May 1, 2000:

Substitute Fourth Revised Sheet No. 144

Substitute Fifth Revised Sheet No. 145

Substitute Third Revised Sheet No. 147

Columbia Gulf states on March 31, 2000, it filed tariff sheets in Docket No. RP00-238 to revise its tariff to comply with the Commission's changes in its Order No. 637 to the right-of-first-refusal (ROFR) afforded certain firm shippers in 18 CFR 284.221(d)(2)(ii). In Order No. 637, the Commission revised the ROFR to limit its applicability. Columbia Gulf revised General Terms and Conditions (GTC) Section 4, which contains the procedures for the awarding of existing firm capacity and the exercise of the ROFR on Columbia Gulf, to reflect these changes. On April 26, 2000, the Commission accepted the filed tariff sheets to be effective May 1, 2000, subject to Columbia Gulf making certain revisions within 30 days. The instant filing is being made to comply with the April 26 Order.

Columbia Gulf states that copies of its filing have been mailed to all firm customers, interruptible customers, and affected state commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14394 Filed 6-7-00; 8:45 am]

BILLING CODE 6717-01-M